DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION CONTACT: Petitions and copies of the final decisions are available for examination by the public in the Office of Standards, Regulations, and Variances, MSHA, Room 627, 4015 Wilson Boulevard, Arlington, Virginia 22203. Contact Barbara Barron at 703-235-1910.

Dated: August 18, 2000.
Carol J. Jones,
Director, Office of Standards, Regulations and Variances.

Affirmative Decisions on Petitions for Modification

Docket No.: M-2000-005-C

FR Notice: 65 FR 10563

Petitioner: Independence Coal Company, Inc.

Regulation Affected: 30 CFR 75.350

Summary of Findings: Petitioner's proposal is to use air coursed through the conveyor belt entry to ventilate active working places by installing a low-level carbon monoxide monitoring system as an early warning fire detection system in all belt entries used to course intake air to a working place. This is considered an acceptable alternative method for the Cedar Grove Mine No. 1. MSHA grants the petition for modification for the Cedar Grove Mine No. 1 with conditions.

Docket No.: M-2000-009-C

FR Notice: 65 FR 10564

Petitioner: Performance Coal Company

Regulation Affected: 30 CFR 75.350

Summary of Findings: Petitioner's proposal is to use air coursed through the conveyor belt entry to ventilate active working places by installing a low-level carbon monoxide monitoring system as an early warning fire detection system in all belt entries used to course intake air to a working place. This is considered an acceptable alternative method for the Upper Big Branch Mine-South. MSHA grants the petition for modification for the Upper Big Branch Mine-South with conditions.

Docket No.: M-2000-010-C

FR Notice: 65 FR 10564

Petitioner: Aracoma Coal Company

Regulation Affected: 30 CFR 75.350

Summary of Findings: Petitioner's proposal is to use air coursed through the conveyor belt entry to ventilate active working places by installing a low-level carbon monoxide monitoring system as an early warning fire detection system in all belt entries used to course intake air to a working place. This is considered an acceptable alternative method for the Aracoma Alma Mine No. 1. MSHA grants the petition for modification for the Aracoma Alma Mine No. 1 with conditions.

Docket No.: M-2000-022-C

FR Notice: 65 FR 19928

Petitioner: Black Beauty Coal Company

Regulation Affected: 30 CFR 1909(b)(6)

Summary of Findings: Petitioner's proposal is to in lieu of front wheel brakes on the Getman Roadbuilder six-wheeled diesel grader, limit the minimum speed of the grader to less than 10 mph, provide training for the grader operators on lowering the moldboard for additional stopping capability in emergency situations, and on recognizing the appropriate speeds to use on different roadway conditions and slopes. This is considered an acceptable alternative method for the Air Quality Mine. MSHA grants the petition for modification for the Air Quality Mine with conditions.

Docket No.: M-1999-001-C

FR Notice: 64 FR 12183

Petitioner: Mountain Coal Company

Regulation Affected: 30 CFR 75.701

Summary of Findings: Petitioner's proposal is to use portable diesel generators to move and operate electric powered mobile equipment and pumps throughout the mine. This is considered an acceptable alternative method for the West Elk Mine. MSHA grants the petition for modification for the 480-volt, three-phase, 460 KW diesel powered generator (DPG) sets supplying power to a 400 KVA three-phase transformer and three-phase 480-, 575-, and 995-Volt power circuits for the West Elk Mine with conditions.

Docket No.: M-1999-002-C

FR Notice: 64 FR 12183

Petitioner: Mountain Coal Company

Regulation Affected: 30 CFR 75.901.

Summary of Findings: Petitioner's proposal is to use portable diesel generators to move and operate electric powered mobile equipment and pumps throughout the mine. This is considered an acceptable alternative method for the West Elk Mine. MSHA grants the petition for modification for the 480-volt, three-phase, 460 KW diesel powered generator (DPG) sets supplying power to a 400 KVA three-phase transformer and three-phase 480-, 575-, and 995-Volt power circuits for the West Elk Mine with conditions.

Docket No.: M-1999-003-C.

Petitioner: Peabody Coal Company.

Regulation Affected: 30 CFR 75.364(b)(4).

Summary of Findings: Petitioner's proposal is to establish evaluation points to monitor the return air course inby and outby the seals by establishing evaluation points to monitor the affected area, have a certified person monitor the evaluation points on a weekly basis to determine the volume of air and the methane and oxygen concentrations, and record all examination results in a book maintained on the surface of the mine. This is considered an acceptable alternative method for the Camp No. 1 Mine. MSHA grants the petition for modification for the continuous monitoring using intrinsically safe sensors installed as part of the mine's Atmospheric Monitoring System (AMS) and weekly evaluation of air entering and leaving approximately 900 feet of return air course which ventilates the inaccessible 4th Panel West Mine seals and an inaccessible portion of the North Main return air course for the Camp No. 1 Mine with conditions.

Docket No.: M-1999-004-C.

FR Notice: 64 FR 12183.

Petitioner: Peabody Coal Company.

Regulation Affected: 30 CFR 75.364(b)(2).

Summary of Findings: Petitioner's proposal is to establish evaluation points to monitor the return air course inby and outby the seals by establishing evaluation points to monitor the affected area, have a certified person monitor the evaluation points on a weekly basis to determine the volume of air and the methane and oxygen concentrations, and record all examination results in a book maintained on the surface of the mine. This is considered an acceptable alternative method for the Camp No. 1 Mine. MSHA grants the petition for modification for the evaluation of airflow through an approximately 1,450-foot-long, unsafe-to-travel segment of common return air course entries in Main North for the Camp No. 1 Mine with conditions.

Docket No.: M-1999-010-C.

FR Notice: 64 FR 16760.

Petitioner: D & D Coal Company

Regulation Affected: 30 CFR 75.1200(d)

Summary of Findings: Petitioner's proposal is to use cross-sections instead of contour lines through the intake slope, at locations of rock tunnel connections between veins, and at 1,000 foot intervals of advance from the intake slope, and to limit the required mapping of the mine workings above and below to those present within 1000 feet of the veins being mined except when veins are interconnected to other veins beyond the 100-foot limit through rock tunnels. This is considered an acceptable alternative method for the 7 Ft. Drift Mine. MSHA grants the petition for modification for the 7 Ft. Drift Mine with conditions.

Docket No.: M-1999-030-C

FR Notice: 64 FR 32551

Petitioner: Snyder Coal Company

Regulation Affected: 30 CFR 75.360

Summary of Findings: Petitioner's proposal is to visually examine each seal for physical damage from the slope gunboat during the preshift examination after an air quantity reading is taken just inby the intake portal; air reading and gas test for methane, carbon dioxide, and oxygen deficiency taken at the intake air split locations just off the slope in the gangway portion of the working section; and have the examiner reading the air and gas test record the date, time, his/her initials, and results of the readings at a sufficient location on the surface and correct all hazards prior to transporting personnel into the slope. This is considered an acceptable alternative method for the Rattling Run Slope Mine. MSHA grants the petition for modification for the Rattling Run Slope Mine with conditions.

Docket No.: M-1999-031-C

FR Notice: 64 FR 32551

Petitioner: Snyder Coal Company

Regulation Affected: 30 CFR 75.364(b)(1), (4) and (5)

Summary of Findings: Petitioner's proposal is to preshift examine the intake haulage slope and primary escapeway areas from the gunboat/slope car with an alternative air quality evaluation at the section's intake gangway level, and travel and thoroughly examine these areas for hazardous conditions once a month and record the date, time, and his/her initials at an appropriate location on the surface due to significant fall hazards. This is considered an acceptable alternative method in part, for the Rattling Run Slope Mine. MSHA grants the petition for modification for 30 CFR 75.364(b)(4), to conduct examinations of the seals located along the return and bleeder air courses from the ladder on a weekly basis, not on a monthly basis for the Rattling Run Slope Mine with conditions.

Docket No.: M-1999-034-C

FR Notice: 64 FR 32552

Petitioner: Snyder Coal Company

Regulation Affected: 30 CFR 75.1400(c)

Summary of Findings: Petitioner's proposal is to use a slope conveyance gunboat in transporting persons without installing safety catches or other no less effective devices, but instead use an increased rope strength/safety factor and secondary safety rope connection. This is considered an acceptable alternative method for the Rattling Run Slope Mine. MSHA grants the petition for modification for the Rattling Run Slope Mine with conditions.

Docket No.: M-1999-037-C

FR Notice: 64 FR 32552

Petitioner: Mingo Logan Coal Company

Regulation Affected: 30 CFR 75.350

Summary of Findings: Petitioner's proposal is to install a low-level carbon monoxide monitoring as an automatic fire detection as an early warning system in all conveyor belt entries to be used to ventilate working places. This is considered an acceptable alternative method for the Mountaineer Alma A Mine. MSHA grants the petition for modification for the Mountaineer Alma A Mine with conditions.

Docket No.: M-1999-052-C

FR Notice: 64 FR 41139

Petitioner: West Ridge Resources, Inc.

Regulation Affected: 30 CFR 75.1101-8

Summary of Findings: Petitioner's proposal to use a single overhead pipe system with ½-inch orifice automatic sprinklers located on 10-foot centers rather than every 8 feet to cover 50 feet of fire-resistant belt or 150 feet of non-fire resistant belt with actuation temperatures between 200 and 230 degrees Fahrenheit, have the automatic sprinklers located not more than 10 feet apart so that the discharge of water will extend over the belt drive, belt take-up, electrical control and gear reducing unit. This is an acceptable alternative method for the West Ridge Mine. MSHA grants the petition for modification for the water sprinkler system arrangement installed for fire protection on belt conveyors for the West Ridge Mine with conditions.

Docket No.: M-1999-058-C

FR Notice: 64 FR 41140

Petitioner: Knott County Mining Company

Regulation Affected: 30 CFR 75.900

Summary of Findings: Petitioner's proposal to use contactors for undervoltage protection as an alternative to using circuit breakers. This is considered an acceptable alternative method for the Panther Lick Mine. MSHA grants the petition for modification to allow the use of vacuum contactors to provide undervoltage and overload protection and monitor the grounding conductors for 480-volt belt conveyor drive motors and water pump motors greater than 5 horsepower located in the panther Lick Mine with conditions.

Docket No.: M-1999-064-C

FR Notice: 64 FR 49246

Petitioner: Bowie Resources, Ltd.

Regulation Affected: 30 CFR 75.804(a)

Summary of Findings: Petitioner's proposal is to use high-voltage cables that comply with the existing standard or CABLEC/BICC Anaconda brand KV,3C type SHD+GC or similar 5,000 volt cable with a center ground check conductor, but otherwise manufactured to the ICEA Standard S-75-381 for type SHD, three-conductor cables. This is considered an acceptable alternative method for the Bowie Mine No. 2. MSHA grants the petition for modification for the Bowie Mine No. 2 with conditions.

Docket No.: M-1999-074-C

FR Notice: 64 FR 55492

Petitioner: Consol of Kentucky, Inc.

Regulation Affected: 30 CFR 75.1101-8

Summary of Findings: Petitioner's proposal to use a single overhead pipe system with ½-inch orifice automatic sprinklers located on 10-foot centers rather than every 8 feet to cover 50 feet of fire-resistant belt or 150 feet of non-fire resistant belt with actuation temperatures between 200 and 230 degrees Fahrenheit, have the automatic sprinklers located not more than 10 feet apart so that the discharge of water will extend over the belt drive, belt take-up, electrical control and gear reducing unit. This is an acceptable alternative method for the Mousie H4 Mine. MSHA grants the petition for modification for the water sprinkler system arrangement installed for fire protection on belt conveyors for the Mousie H4 Mine with conditions.

Docket No.: M-1999-077-C

FR Notice: 64 FR 55493

Petitioner: Consol of Kentucky, Inc.

Regulation Affected: 30 CFR 75.701

Summary of Findings: Petitioner's proposal is to obtain a low- and medium-voltage, three-phase, alternating current for use underground from a portable diesel-driven generator and to connect the neutral of the generator's transformer secondary through a suitable resistor to the frame of the diesel generator. This is considered an acceptable alternative method for the Mousie H4 Mine. MSHA grants the petition for modification for the 480-volt, three-phase, 188W diesel powered generator (DPG) set supplying power to a 20 KVA three-phase transformer and three-phase 600-volt and 995-volt power circuits at the Mousie H4 Mine with conditions.

Docket No.: M-1999-080-C

FR Notice: 64 FR 55493

Petitioner: Wayne Processing, Inc.

Regulation Affected: 30 CFR 75.503

Summary of Findings: Petitioner's proposal is to use a spring-loaded locking device to secure battery plugs to machine mounted receptacles instead of using padlocks. This is considered an acceptable alternative method for the No. 1 Mine. MSHA grants the petition for modification for the use of permanently installed spring-loaded locking devices in lieu of padlocks on battery plugs at the No. 1 Mine with conditions.

Docket No.: M-1999-081-C

FR Notice: 64 FR 55493

Petitioner: Sheep Fork Energy, Inc.

Regulation Affected: 30 CFR 75.503

Summary of Findings: Petitioner's proposal is to use a spring-loaded locking device to secure battery plugs to machine mounted receptacles instead of using padlocks. This is considered an acceptable alternative method for the No. 6 Mine. MSHA grants the petition for modification for the use of permanently installed spring-loaded locking devices in lieu of padlocks on battery plugs at the No. 6 Mine with conditions.

Docket No.: M-1999-083-C

FR Notice: 64 FR 55493

Petitioner: Garrett Mining, Inc.

Regulation Affected: 30 CFR 75.503

Summary of Findings: Petitioner's proposal is to use a spring-loaded locking device to secure battery plugs to machine mounted receptacles instead of using padlocks. This is considered an acceptable alternative method for the No. 2 Mine. MSHA grants the petition for modification for the use of permanently installed spring-loaded locking devices in lieu of padlocks on battery plugs at the No. 2 Mine with conditions.

Docket No.: M-1999-084-C

FR Notice: 64 FR 57661

Petitioner: Clark Elkhorn Coal Company

Regulation Affected: 30 CFR 75.503

Summary of Findings: Petitioner's proposal is to use a spring-loaded locking device to secure battery plugs to machine mounted receptacles instead of using padlocks. This is considered an acceptable alternative method for the Ratliff Mine. MSHA grants the petition for modification for the use of permanently installed spring-loaded locking devices in lieu of padlocks on battery plugs at the Ratliff Mine with conditions.

Docket No.: M-1999-085-C

FR Notice: 64 FR 57661

Petitioner: Matrix Coal Company

Regulation Affected: 30 CFR 75.503

Summary of Findings: Petitioner's proposal is to use a spring-loaded locking device to secure battery plugs to machine mounted receptacles instead of using padlocks. This is considered an acceptable alternative method for the Mohawk Mine. MSHA grants the petition for modification for the use of permanently installed spring-loaded locking devices in lieu of padlocks on battery plugs at the Mohawk Mine with conditions.

Docket No.: M-1999-086-C

FR Notice: 64 FR 57661

Petitioner: Remington Coal Company, Inc.

Regulation Affected: 30 CFR 75.503

Summary of Findings: Petitioner's proposal is to use a spring-loaded locking device to secure battery plugs to machine mounted receptacles instead of using padlocks. This is considered an acceptable alternative method for the Stockburg Mine. MSHA grants the petition for modification for the use of permanently installed spring-loaded locking devices in lieu of padlocks on battery plugs at the Stockburg No. 1 Mine with conditions.

Docket No.: M-1999-087-C

FR Notice: 64 FR 57661

Petitioner: Goodin Creek Contracting, Inc.

Regulation Affected: 30 CFR 75.380(f)(4)

Summary of Findings: Petitioner's proposal is to install two ten pound portable chemical fire extinguishers in the operators' deck of each Mescher three wheel tractor readily accessible to the operator, have the operator inspect each fire extinguisher daily prior to entering the escapeway, maintain records of inspections, and maintain a sufficient number of spare fire extinguishers at the mine in case the fire extinguisher becomes defective. This is considered an acceptable alternative method for the Goodin Creek Mine. MSHA grants the petition for modification for the Mescher three wheel tractors to be operated in the primary escapeway at the Goodin Creek Mine with conditions.

Docket No.: M-1999-088-C

FR Notice: 64 FR 57662

Petitioner: Canfield Energy, Inc.

Regulation Affected: 30 CFR 75.380(f)(4)(i)

Summary of Findings: Petitioner's proposal is to install two ten pound portable chemical fire extinguishers in the operators' deck of each Mescher three wheel tractor readily accessible to the operator, have the operator inspect each fire extinguisher daily prior to entering the escapeway, maintain record of inspections, and maintain a sufficient number of spare fire extinguishers at the mine in case the fire extinguisher becomes defective. This is considered an acceptable alternative method for the Canfield #5 Mine. MSHA grants the petition for modification for the Mescher three wheel tractors to be operated in the primary escapeway at the Canfield #5 Mine with conditions.

Docket No.: M-1999-089-C

FR Notice: 64 FR 57662

Petitioner: Canfield Energy, Inc.

Regulation Affected: 30 CFR 75.342

Summary of Findings: Petitioner's proposal is to use a hand-held continuous duty methane, oxygen, and carbon monoxide detector instead of machine-mounted methane monitors on three-wheel tractors used to load and haul coal from the mine faces. This is considered an acceptable alternative method for the Canfield #5 Mine. MSHA grants the petition for modification for the Mescher permissible three-wheel battery-powered tractors used to load coal at the Canfield #5 Mine with conditions.

Docket No.: M-1999-091-C

FR Notice: 64 FR 57662

Petitioner: Mallie Coal Company, Inc.

Regulation Affected: 30 CFR 75.342

Summary of Findings: Petitioner's proposal is to use a hand-held continuous duty methane, oxygen, and carbon monoxide detector instead of machine-mounted methane monitors on three-wheel tractors used to load and haul coal from the mine faces. This is considered an acceptable alternative method for the Mine No. 4. MSHA grants the petition for modification for the Mescher permissible three-wheel battery-powered tractors used to load coal at the Mine No. 4 with conditions.

Docket No.: M-1999-093-C

FR Notice: 64 FR 57662

Petitioner: RAG Empire Corporation

Regulation Affected: 30 CFR 75.507

Summary of Findings: Petitioner's proposal is to use a 480-volt non-permissible pump in boreholes in sealed areas of the mine. This is considered an acceptable alternative method for the Eagle No. 5 Mine. MSHA grants the petition for modification for the Eagle No. 5 Mine with conditions.

Docket No.: M-1999-094-C

FR Notice: 64 FR 57662

Petitioner: RAG Empire Corporation

Regulation Affected: 30 CFR 75.902

Summary of Findings: Petitioner's proposal is to use a 480-volt non-permissible pump in boreholes in sealed areas at 1 North areas of the mine. This is considered an acceptable alternative method for the Eagle No. 5 Mine. MSHA grants the petition for modification for the North Angle Pump at the Eagle No. 5 Mine with conditions.

Docket No.: M-1999-097-C

FR Notice: 64 FR 57663

Petitioner: Drummond Company, Inc.

Regulation Affected: 30 CFR 75.1909(b)(6)

Summary of Findings: Petitioner's proposal is to use its Getman diesel grader without individual service brakes on all grader wheels; equip the grader with services brakes on each drive wheel and stationary emergency brakes; to limit the tramming speed of the grader to 10 miles per hour; and train grader operators to check the function of the brakes during pre-operational checks and if required, train the operators to lower the grader blade to the ground as an additional braking mechanism and while the grader is parked. This is considered an acceptable alternative method for the Shoal Creek Mine. MSHA grants the petition for modification limited in application to the Getman/Model RDG-1504 (Serial No. 6297) at the Shoal Creek Mine with conditions.

Docket No.: M-1999-099-C

FR Notice: 64 FR 57663

Petitioner: J & A Coal Corporation

Regulation Affected: 30 CFR 75.503

Summary of Findings: Petitioner's proposal is to a spring loaded locking device to secure battery plugs into machine mounted receptacle on mobile battery powered equipment instead of using padlocks. This is considered an acceptable alternative method for the No. 1 Mine. MSHA grants the petition for modification the use of permanently installed spring-loaded locking devices in lieu of padlocks on battery plugs at the No. 1 Mine with conditions.

Docket No.: M-1999-103-C

FR Notice: 64 FR 57663

Petitioner: Consol of Kentucky, Inc.

Regulation Affected: 30 CFR 75.901(a)

Summary of Findings: Petitioner's proposal is to use low- and medium-voltage, three-phase, alternating current for use underground from a portable diesel-driven generator and to connect the neutral of the generator's transformer secondary through a suitable resistor to the frame of the diesel generator. This is considered an acceptable alternative method for the Mousie H4 Mine. MSHA grants the petition for modification for use of the 480-volt, three-phase, 188KW diesel powered generator (DPG) set supplying power to a 200 KVA three-phase transformer and three-phase 600-volt and 995-volt power circuits at the Mousie H4 Mine with conditions.

Docket No.: M-1999-105-C

FR Notice: 64 FR 57664

Petitioner: Alex Energy, Inc.

Regulation Affected: 30 CFR 75.1700

Summary of Findings: Petitioner's proposal is to plug and mine through oil and gas wells and to notify the District Manager or designee prior to mining within 300 feet of the well. This is considered an acceptable alternative method for the Jerry Fork Eagle Mine. MSHA grants the petition for modification for mining through or near (whenever the safety barrier diameter is reduced to a distance less than the District Manager would approve pursuant to Section 75.1700) plugged oil or gas wells penetrating the Eagle Coal Seam and other mineable coal seams at the Jerry Fork Eagle Mine with conditions.

Docket No.: M-1999-106-C

FR Notice: 64 FR 70054

Petitioner: Energy Fuels Coal, Inc.

Regulation Affected: 30 CFR 75.901

Summary of Findings: Petitioner's proposal is to use a diesel generator to move equipment from section to section, and use a roof bolter to rehabilitate remote areas of the mine with a genset 480 vac three-phase, mounted and grounded to a metal sled with an area of 60 square feet that is in contact with damp mine floor at all times. This is considered an acceptable alternative method for the South Field Mine. MSHA grants the petition for modification for 480-volt, three-phase, 135KW diesel powered generator (DPG set supplying power to a 169 KVA three-phase transformer and three-phase 480-volt and 995-volt power circuits at the South Field Mine with conditions.

Docket No.: M-1999-111-C

FR Notice: 64 FR 70054

Petitioner: Ohio County Coal Company

Regulation Affected: 30 CFR 75.1103-4(a)

Summary of Findings: Petitioner's proposal is to install a low-level carbon monoxide system as an early warning fire detection system in all belt entries where a monitoring system identifies a sensor location instead of identifying each belt flight. This is an acceptable alternative method for the Freedom Mine. MSHA grants the petition for modification for the Freedom Mine with conditions.

Docket No.: M-1999-112-C

FR Notice: 64 FR 70054

Petitioner: Bledsoe Coal Corporation

Regulation Affected: 30 CFR 75.900

Summary of Findings: Petitioner's proposal is to use contactors for protection on circuit breakers instead of using under-voltage protection and continue using short circuit breakers for interrupting retrips. This is considered an acceptable alternative method for the Mine No. 4, and Mine No. 60. MSHA grants the petition for modification for the Mine No. 4, and Mine No. 60 with conditions.

Docket No.: M-1999-113-C

FR Notice: 64 FR 70054

Petitioner: Mountain Coal Company

Regulation Affected: 30 CFR 75.1909(b)(6)

Summary of Findings: Petitioner's proposal is to equip its road graders with service brakes on the rear wheels and limit the speed to a maximum of 15 miles per hour, train all personnel who operate the graders on proper techniques for lowering the blade additional slowing or stopping capability is needed. This is considered an acceptable alternative method for the West Elk Mine. MSHA grants the petition for modification for use of the Getman, Serial No. 6275, and Arnold, Serial No. 7773695, diesel graders with the speed of the grader limited to 10 miles per hour at the West Elk Mine with conditions.

Docket No.: M-1999-114-C

FR Notice: 64 FR 70055

Petitioner: Snyder Coal Company

Regulation Affected: 30 CFR 75.1200(d) & (i)

Summary of Findings: Petitioner's proposal is to use cross-sections instead of contour lines through the intake slope, at locations of rock tunnel connections between veins, and at 1,000-foot intervals of advance from the intake slope and limit the required mapping of the mine workings above and below to those present within 100 feet of the veins being mined except when veins are interconnected to other veins beyond the 100-foot limit through rock tunnels. This is considered an acceptable alternative method for the Rattling Run Mine. MSHA grants the petition for modification for the use of cross-sections, in lieu of contour lines, limiting the mapping of mines above or below this mine to those within 100 feet of the vein being mined at the Rattling Run Slope Mine with conditions.

Docket No.: M-1999-115-C

FR Notice: 64 FR 70055

Petitioner: Wabash Mine Holding Company

Regulation Affected: 30 CFR 75.364(b)(2) and (b)(4)

Summary of Findings: Petitioner's proposal is to establish a permanent monitoring station to monitor the air for oxygen and methane after it passes the seals and links the monitoring station to the mine-wide monitoring (DAN) system and evaluate the air that passes through the seals on a weekly basis due to unsafe roof conditions. This is considered an acceptable alternative method for the Wabash Mine. MSHA grants the petition for modification for continuous monitoring using intrinsically safe sensors installed as part of the mine's Atmospheric Monitoring System (AMS) and preshift examination and evaluation of air entering and leaving approximately 900 feet of designated return air course that ventilates the seven inaccessible Main West Mine seals at the Wabash Mine with conditions.

Docket No.: M-1999-121-C

FR Notice: 64 FR 70732

Petitioner: Long Branch Energy

Regulation Affected: 30 CFR 75.503

Summary of Findings: Petitioner's proposal is to replace a padlock on battery plug connectors on mobile battery-powered machines with a threaded ring and a permanently installed spring-loaded device to prevent the plug connector from accidently disengaging while under load. This is considered an acceptable alternative method for the Long Branch Energy #18 Mine. MSHA grants the petition for modification for the Long Branch Energy #18 Mine with conditions.

Docket No.: M-1999-124-C

FR Notice: 64 FR 70732

Petitioner: Independence Coal Company, Inc.

Regulation Affected: 30 CFR 75.350

Summary of Findings: Petitioner's proposal is to use belt air to ventilate active working places by installing a low-level carbon monoxide detection system as an early warning fire detection system in all belt entries used as intake air courses. This is considered an acceptable alternative method for the Justice No. 1 Mine. MSHA grants the petition for modification for the Justice No. 1 Mine with conditions.

Docket No.: M-1999-147-C

FR Notice: 65 FR 5701

Petitioner: Old Ben Coal Company

Regulation Affected: 30 CFR 75.900

Summary of Findings: Petitioner's proposal is to amend Item #1 of its previously granted petition for modification, docket number M-96-147-C, to read as follows: “The petition for modification shall apply only to the requirement for under-voltage and grounded phase protection for three-phase circuits supplying stationary belt drive installations presently in use or installed in the future.” This is considered an acceptable alternative method for the Zeigler #11 Mine. MSHA grants the petition for modification for the Zeigler #11 Mine with conditions.

Docket No.: M-1999-149-C

FR Notice: 65 FR 5701

Petitioner: Fork Creek Mining Company

Regulation Affected: 30 CFR 75.350

Summary of Findings: Petitioner's proposal is to use air coursed through the belt haulage entry to ventilate active working places by installing a carbon monoxide monitoring system as an early warning fire detection system in all belt entries used to carry intake air to a working place. This is considered an acceptable alternative method for the Fork Creek No. 1 Mine. MSHA grants the petition for modification for the Fork Creek No. 1 Mine with conditions.

Docket No.: M-1998-109-C

FR Notice: 64 FR 2519

Petitioner: Meadow River Coal Company

Regulation Affected: 30 CFR 75.350

Summary of Findings: Petitioner's proposal is to use belt entry as an intake airway by installing a low-level carbon monoxide detection system in all belt entries used as intake air courses as an early warning fire detection system (carbon monoxide monitoring system). This is considered an acceptable alternative method for the Meadow River No. 1 Mine. MSHA grants the petition for modification to allow air coursed through conveyor belt entries to be used to ventilate working places at the Meadow River No. 1 Mine with conditions.

Docket No.: M-1999-002-M

FR Notice: 64 FR 23874

Petitioner: ASARCO, Inc.

Regulation Affected: 30 CFR 56.14100(a)

Summary of Findings: Petitioner's proposal is to have a single qualified employee conduct the required pre-shift inspections of the buses used to transport miners for the oncoming shift, rather than the individual bus drivers who operate the vehicles on the shift. This is considered an acceptable alternative method for the ASARCO Ray Complex Mine. MSHA grants the petition for modification for the ASARCO Ray Complex Mine with conditions.

[FR Doc. 00-21835 Filed 8-25-00; 8:45 am]

BILLING CODE 4510-43-P